DEPARTMENT OF COMMERCE

International Trade Administration

[A-588-845, A-580-834, A-583-831]

Stainless Steel Sheet and Strip in Coils From Japan, the Republic of Korea, and Taiwan: Final Results of the Expedited Sunset Reviews of the Antidumping Duty Orders

AGENCY: Enforcement and Compliance, International Trade Administration, Department of Commerce.

SUMMARY: As a result of these sunset reviews, the Department of Commerce (the Department) finds that revocation of the antidumping duty (AD) orders on stainless steel sheet and strip (SSSS) in coils from Japan, the Republic of Korea (Korea), and Taiwan would be likely to lead to continuation or recurrence of dumping at the levels indicated in the “Final Results of Sunset Reviews” section of this notice.

DATES: Effective November 7, 2016.

FOR FURTHER INFORMATION CONTACT: Terre Keaton Stefanova, AD/CVD Operations, Office II, Enforcement and Compliance, International Trade Administration, U.S. Department of Commerce, 14th Street and Constitution Avenue NW., Washington, DC 20230; telephone: (202) 482-1280.

SUPPLEMENTARY INFORMATION:

Background

On July 1, 2016, the Department published the notice of initiation of the sunset reviews of the AD Orders ¹ on SSSS in coils from Japan, the Republic of Korea (Korea), and Taiwan, pursuant to section 751(c) of the Tariff Act of 1930, as amended (the Act).² On July 15, 2016, AK Steel Corporation, Allegheny Ludlum, LLC d/b/a ATI Flat Rolled Products, North American Stainless, and Outokumpu Stainless USA LLC (collectively, Petitioners or domestic interested parties), notified the Department of their intent to participate within the 15-day period specified in 19 CFR 351.218(d)(1)(i).³ Each of the domestic parties claimed interested party status under section 771(9)(C) of the Act stating that they are each producers in the United States of a domestic like product.

¹ See Notice of Amended Final Determination of Sales at Less Than Fair Value and Antidumping Duty Order; Stainless Steel Sheet and Strip in Coils From Japan; 64 FR 40565 (July 27, 1999); and Notice of Antidumping Duty Order; Stainless Steel Sheet and Strip in Coils From United Kingdom, Taiwan and South Korea; 64 FR 40555 (July 27, 1999) (collectively, Orders).

² See Initiation of Five-Year (“Sunset”) Review, 81 FR 43185 (July 1, 2016) (Notice of Initiation).

³ See Petitioners' July 15, 2016, submissions “Five-Year (“Sunset”) Review of the Antidumping Duty Order on Stainless Steel Sheet and Strip in Coils from Japan—Petitioners' Notice of Intent to Participate;” “Five-Year (“Sunset”) Review of the Antidumping Duty Order on Stainless Steel Sheet and Strip in Coils from Korea—Petitioners' Notice of Intent to Participate;” and “Five-Year (“Sunset”) Review of the Antidumping Duty Order on Stainless Steel Sheet and Strip in Coils from Taiwan—Petitioners' Notice of Intent to Participate.”

On July 29, 2016, the Department received complete substantive responses to the Notice of Initiation from domestic interested parties within the 30-day deadline specified in 19 CFR 351.218(d)(3)(i). We received no substantive responses from respondent interested parties with respect to the orders on SSSS in coils from Japan, Korea, or Taiwan, nor was a hearing requested. As a result, pursuant to 19 CFR 351.218(e)(1)(ii)(C)(2), the Department conducted expedited (120-day) sunset reviews of the AD Orders on SSSS in coils from Japan, Korea, and Taiwan.

Scope of the Orders

The merchandise covered by these AD orders is SSSS in coils. The merchandise subject to these orders is classified in the Harmonized Tariff Schedule of the United States (HTSUS) at subheadings: 7219.13.00.31, 7219.13.00.51, 7219.13.00.71, 7219.13.00.81, 7219.14.00.30, 7219.14.00.65, 7219.14.00.90, 7219.32.00.05, 7219.32.00.20, 7219.32.00.25, 7219.32.00.35, 7219.32.00.36, 7219.32.00.38, 7219.32.00.42, 7219.32.00.44, 7219.33.00.05, 7219.33.00.20, 7219.33.00.25, 7219.33.00.35, 7219.33.00.36, 7219.33.00.38, 7219.33.00.42, 7219.33.00.44, 7219.34.00.05, 7219.34.00.20, 7219.34.00.25, 7219.34.00.30, 7219.34.00.35, 7219.35.00.05, 7219.35.00.15, 7219.35.00.30, 7219.35.00.35, 7219.90.00.10, 7219.90.00.20, 7219.90.00.25, 7219.90.00.60, 7219.90.00.80, 7220.12.10.00, 7220.12.50.00, 7220.20.10.10, 7220.20.10.15, 7220.20.10.60, 7220.20.10.80, 7220.20.60.05, 7220.20.60.10, 7220.20.60.15, 7220.20.60.60, 7220.20.60.80, 7220.20.70.05, 7220.20.70.10, 7220.20.70.15, 7220.20.70.60, 7220.20.70.80, 7220.20.80.00, 7220.20.90.30, 7220.20.90.60, 7220.90.00.10, 7220.90.00.15, 7220.90.00.60, and 7220.90.00.80. (Prior to 2001, U.S. imports under HTS statistical reporting numbers 7219.13.00.31, 7219.13.00.51, 7219.13.00.71, 7219.13.00.81 were entered under HTS statistical reporting numbers 7219.13.00.30, 7219.13.00.50, 7219.13.00.70, 7219.13.00.80.) Although the HTSUS subheadings are provided for convenience and customs purposes, the Department's written description of the merchandise subject to these orders is dispositive.

The Issues and Decision Memorandum, which is hereby adopted by this notice, provides a full description of the scope of the Orders.⁴

⁴ See the Department's memorandum from Christian Marsh, Deputy Assistant Secretary for Antidumping and Countervailing Duty Operations, to Paul Piquado, Assistant Secretary for Enforcement and Compliance, “Issues and Decision Memorandum for the Expedited Third Sunset Reviews of the Antidumping Duty Orders on Stainless Steel Sheet and Strip in Coils from Japan, Korea, and Taiwan,” dated concurrently with this notice (Issues and Decision Memorandum).

Analysis of Comments Received

A complete discussion of all issues raised in these reviews is provided in the accompanying Issues and Decision Memorandum. The issues discussed in the Issues and Decision Memorandum include the likelihood of continuation or recurrence of dumping and the magnitude of the margins likely to prevail if the Orders were revoked. The Issues and Decision Memorandum is a public document and is on file electronically via Enforcement and Compliance's Antidumping and Countervailing Duty Centralized Electronic Service System (ACCESS). ACCESS is available to registered users at http://access.trade.gov and to all parties in the Central Records Unit, Room B8024 of the main Department of Commerce building. In addition, a complete version of the Issues and Decision Memorandum can be accessed at http://enforcement.trade.gov/frn/. The signed Issues and Decision Memorandum and the electronic version of the Issues and Decision Memorandum are identical in content.

Final Results of Reviews

Pursuant to sections 751(c)(1) and 752(c)(1) and (3) of the Act, the Department determines that revocation of the AD Orders on SSSS in coils from Japan, Korea, and Taiwan would be likely to lead to continuation or recurrence of dumping up to the following weighted-average margin percentages:

Country | Weighted- average margin (percent)
Japan | 57.89
Korea | 58.79
Taiwan | 21.10

Notification to Interested Parties of Administrative Protective Orders

This notice serves as the only reminder to parties subject to administrative protective orders (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results of the reviews and this notice in accordance with sections 751(c), 752(c), and 777(i)(1) of the Act.

Dated: November 1, 2016.
Paul Piquado,
Assistant Secretary for Enforcement and Compliance.

[FR Doc. 2016-26848 Filed 11-4-16; 8:45 am]

BILLING CODE 3510-DS-P